ENVIRONMENTAL PROTECTION AGENCY

[EPA-R05-OAR-2018-0402; FRL-9989-35—Region 5]

Notice of Issuance of Grand Casino Mille Lacs PSD and Part 71 Permits

AGENCY: Environmental Protection Agency (EPA).

ACTION: Notice.

SUMMARY: This notice announces that the Environmental Protection Agency (EPA) issued Federal operating permits to the Mille Lacs Band Corporate Commission for Grand Casino Mille Lacs. The source is in Onamia, Minnesota on lands held in trust for the Mille Lacs Band of Ojibwe Indians. The permits authorize a change in the testing requirements for oxides of nitrogen (NOX) emissions from three existing diesel-fired internal combustion engines. These engines are used for peak load management as well as for backup power. NOx performance test requirements are increased in frequency from once in five years to once in three years.

FOR FURTHER INFORMATION CONTACT: Paymon Danesh, Environmental Engineer, Air Permits Section, Air Programs Branch (AR-18J), Environmental Protection Agency, Region 5, 77 West Jackson Boulevard, Chicago, Illinois 60604, (312) 886-6219, danesh.paymon@epa.gov.

SUPPLEMENTARY INFORMATION: Throughout this document whenever “we,” “us,” or “our” is used, we mean EPA. This supplementary information section is arranged as follows:

I. How can I get copies of this document and other related information?

Docket. EPA has established a docket for this action under Docket ID No. EPA-R05-OAR-2018-0402. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Paymon Danesh, Environmental Engineer, at (312) 886-6219 before visiting the Region 5 office.

A. What is the background information?

Mille Lacs Corporate Commission owns and operates four diesel-fired generators used for peak load management and backup power at the Grand Casino Mille Lacs facility, located in Onamia, Minnesota. Mille Lacs Corporate Commission also owns and operates a fifth diesel-fired generator used for emergency backup power. The facility is located on land that is held in trust for the Mille Lacs Band of Ojibwe. EPA is responsible for issuing and enforcing any air quality permits for the source until such time that the Mille Lacs Band of Ojibwe has EPA approval to do so.

On March 13, 2018, EPA received from Mille Lacs Band Corporate Commission a significant permit modification application requesting a revision to the facility's annual NOx compliance test requirements. The applicant also requested that the frequency of performance tests for the engines be increased from once in every 5 years to once in every 3 years. EPA approved the requested changes. On June 18, 2018, EPA published a draft revised title V permit and draft revised Prevention of Significant Deterioration (PSD) permit for public comment. The public comment period ended on July 23, 2018. EPA did not receive any comments on the permits. EPA issued the final permits for Grand Casino Mille Lacs, title V permit number 2018-71MNML-001, and PSD permit number 2018-52MNML-001, on August 2, 2018. Pursuant to 40 CFR 71.11(i)(2)(iii) and 40 CFR 124.15(b)(3), the permits became effective immediately upon issuance since EPA did not receive any comments on the permits.

B. Appeal of the Permits

Pursuant to 40 CFR 71.11(l), any person who filed comments on the draft permit may petition for administrative review subject to the requirements of 40 CFR 71.11(l). If no one filed comments on the draft permit and the final permit is identical to the permit as proposed, any person may petition for administrative review of the permit only to the extent that grounds for a petition have arisen that were not reasonably foreseeable during the public comment period on the draft permit. For Grand Casino Mille Lacs permit number 2018-71MNML-001, the 30-day period during which a person may seek review under 40 CFR 71.11(l) began on August 7, 2018.

Pursuant to 40 CFR 124.19(a)(2), any person who filed comments on the draft PSD permit may file a petition for review as provided in 40 CFR 124.19. Additionally, any person who failed to file comments may petition for administrative review of any permit conditions set forth in the final permit decision, but only to the extent that those final permit conditions reflect changes from the proposed draft permit. For Grand Casino Mille Lacs permit number 2018-52MNML-001, the 30-day period during which a person may seek review under 40 CFR 124.19 began on August 7, 2018.

C. What is the purpose of this notice?

EPA is notifying the public of the issuance of a revised title V operating permit and revised PSD construction permit to Mille Lacs Band Corporate Commission for Grand Casino Mille Lacs.

EPA issued permit numbers 2018-71MNML-001 and 2018-52MNML-001 on August 2, 2018 to Mille Lacs Band Corporate Commission, which became effective immediately upon issuance.

Authority: 42 U.S.C. 7401 et seq.

Dated: December 21, 2018.
James O. Payne,
Acting Regional Administrator, Region 5.

[FR Doc. 2019-01923 Filed 2-11-19; 8:45 am]

BILLING CODE 6560-50-P